DEPARTMENT OF VETERANS AFFAIRS

Veterans' Disability Benefits Commission Notice of Meeting

The Department of Veterans Affairs (VA) gives notice under Public Law 92-463 (Federal Advisory Committee Act) that the Veterans' Disability Benefits Commission has scheduled a meeting for October 14, 2005, in the hearing room 334 of the House Committee on Veterans' Affairs, at the Cannon House Office Building, Washington, DC 20515. The meeting will begin at 9 a.m. and end at 4 p.m. The meeting is open to the public.

The purpose of the Commission is to carry out a study of the benefits under the laws of the United States that are provided to compensate and assist veterans and their survivors for disabilities and deaths attributable to military service.

The agenda for the meeting will include the opportunity to discuss research questions and issues for further study. The Statements of Work under development for contracting with the Institute of Medicine of the National Academies of Science, as required by the Commission's statutory authority, and the Center for Naval Analysis will be discussed and approved.

Interested persons may attend and present oral statements to the Commission. Time for oral presentations will be limited to five minutes or less, depending on the number of participants. Interested parties may provide written comments for review by the Commission prior the meeting, by e-mail to: veterans@vetscommission.intranets.com or by mail to: Mr. Ray Wilburn, Executive Director, Veterans' Disability Benefits Commission, 1101 Pennsylvania Avenue, NW., 5th Floor, Washington, DC 20004.

Dated: September 22, 2005.
By direction of the Secretary.
E. Philip Riggin,
Committee Management Officer.

[FR Doc. 05-19522 Filed 9-28-05; 8:45 am]

BILLING CODE 8320-01-M